DEPARTMENT OF TRANSPORTATION

Federal Aviation Administration

14 CFR Part 71

[Docket No. FAA-2024-2333; Airspace Docket No. 24-AAL-111]

RIN 2120-AA66

Establishment, Modification, and Revocation of Class E Airspace; Alaska, AK

AGENCY: Federal Aviation Administration (FAA), DOT.

ACTION: Notice of proposed rulemaking (NPRM).

SUMMARY: This action proposes to establish Class E domestic en route airspace (Class E6) within a designated landmass and within 12 miles from a designated coastline associated with the state of Alaska to facilitate the vectoring of instrument flight rules (IFR) aircraft on direct routes where the current en route structure is insufficient or improper within the proposed airspace area. Due to redundancy, this action also proposes to remove two Class E6 airspace areas, remove two Class E airspace areas extending upward from 1,200 feet above the surface, and modify 101 Class E airspace areas extending upward from 700 feet or more above the surface of the earth (Class E5) to remove any portion extending upward from 1,200 feet above the surface due to redundancy. Finally, this action proposes administrative amendments to the legal descriptions of 48 Class E5 airspace areas. This action would support IFR operations while enhancing the safety and management of aircraft operations within the National Airspace System (NAS).

DATES: Comments must be received on or before August 1, 2025.

ADDRESSES: Send comments identified by FAA Docket No. FAA-2024-2333 and Airspace Docket No. 24-AAL-111 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Office of Policy, Federal Aviation Administration, 600 Independence Avenue SW, Washington, DC 20591; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would establish, modify, and revoke Class E airspace to support IFR operations in the state of Alaska.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received, and any final disposition in person in the Dockets Operations office (see ADDRESSES section for address, phone number, and hours of operations). An informal docket may also be examined during normal business hours at the Northwest Mountain Regional Office of the Federal Aviation Administration, Air Traffic Organization, Western Service Center, Operations Support Group, 2200 S 216th Street, Des Moines, WA 98198.

Incorporation by Reference

Class E5 and Class E6 airspace designations are published in paragraphs 6005 and 6006, respectively, of FAA Order JO 7400.11, Airspace Designations and Reporting Points, which is incorporated by reference in 14 CFR 71.1 on an annual basis. This document proposes to amend the current version of that order, FAA Order JO 7400.11J, dated July 31, 2024, and effective September 15, 2024. These updates would be published in the next update to FAA Order JO 7400.11. FAA Order JO 7400.11J, which lists Class A, B, C, D, and E airspace areas, air traffic service routes, and reporting points, is publicly available as listed in the ADDRESSES section of this document.

Background

A variety of Class E airspace areas exist over the state of Alaska today. Class E airspace overlies the entirety of the state (and within 12 miles from the coastline) beginning at 14,500 feet above sea level (excluding the Alaska Peninsula west of longitude 160°00′00″ W, and the airspace below 1,500 feet above the surface of the earth when in mountainous terrain greater than 14,500 feet above sea level). Additionally, 101 unique areas of Class E5 airspace with diameters as great as 150 miles, along with two Class E5 airspace areas extending upward from 1,200 feet above the surface, cover a majority of the state. Furthermore, the state has two Class E6 areas adjacent to the U.S./Canadian Border that also extend upward from 1,200 feet above the surface: one along the northeast boundary of the state and the other along the southeast boundary of the state. The combined 105 Class E airspace areas create redundancy within the NAS. This proposal seeks to simplify and minimize the airspace coverage over the state of Alaska by establishing 1 Class E6 airspace area to replace the 105 Class E airspace areas extending upward from 1,200 feet. In addition, 36 Class E airspace legal descriptions should be modified to update city and airport names, remove unnecessary references, and/or make corrections to language used within.

The FAA previously published a notice of proposed rulemaking for Docket No. FAA-2020-2333 in the Federal Register (89 FR 88182; November 7, 2024), same subject. That proposal was withdrawn on November 18, 2024, to provide additional supporting information.

The Proposal

The FAA is proposing an amendment to 14 CFR part 71 that would establish one new Class E domestic en route airspace area, remove two Class E6 airspace areas, remove two Class E5 airspace areas extending upward from 1,200 feet above the surface, and modify 101 Class E5 airspace areas over the state of Alaska.

By definition, Class E6 airspace is intended for en route operations, and Class E5 airspace is intended for aircraft transitioning to/from terminal or en route environments. The FAA intends to simplify the NAS by establishing a singular, statewide area of Class E6 airspace. A single Class E6 airspace area would better meet the needs of aviators and air traffic control by more appropriately containing aircraft operating on area navigation (RNAV) or direct routes under the control of the FAA facility while simultaneously increasing clearance-from-cloud requirements for aircraft operating under visual flight rules.

In addition, the FAA is proposing to remove the Northeast Alaska Class E6 and Southeast Alaska Class E6 areas, as the proposal would render them redundant if enacted.

Furthermore, two Class E5 airspace areas extending upward from 1,200 feet above the surface should be removed as they would also become redundant.

Finally, 101 areas of Class E5 airspace associated with various airports are proposed for removal. The placement and number of Class E5 airspace areas over the state of Alaska creates clutter and confusion amongst the flying public, air traffic control, and within aeronautical charting, while also creating large areas of airspace redundancy. In Alaska, 101 airports have Class E5 airspace legal descriptions that contain airspace extending upward from both 700 feet and 1,200 feet above the surface. The Class E airspace areas extending upward from 1,200 feet above the surface within the aforementioned 101 descriptions should be removed, to be replaced by the proposed Class E6 airspace. The text header information for 36 of these legal descriptions should be updated to ensure that the city and/or airport names align with the FAA's database, and any reference to navigational aids/components that are no longer needed should be removed. The legal descriptions for the following Class E5 airspace areas should be updated as follows:

Remove Airspace Extending Upward From 1,200 Feet Above the Surface Only

Akhiok, AK, Akhiok Airport

Allakaket, AK, Allaket Airport

Ambler, AK, Ambler Airport

Anaktuvuk Pass, AK, Anaktuvuk Pass Airport

Aniak, AK, Aniak Airport

Anvik, AK, Anvik Airport

Atqasuk, AK, Atqasuk Edward Burnell Sr. Memorial Airport

Bettles, AK, Bettles Airport

Chalkyitsik, AK, Chalkyitsik Airport

Chevak, AK, Chevak Airport

Chignik, AK, Chignik Airport

Clarks Point, AK, Clarks Point Airport

Deering, AK, Deering Airport

Dillingham, AK, Dillingham Airport

Elim, AK, Elim Airport

Emmonak, AK, Emmonak Airport

Fort Yukon, AK, Fort Yukon Airport

Galbraith Lake, AK, Galbraith Lake Airport

Galena, AK, Edward G. Pitka SR. Airport

Gambell, AK, Gambell Airport

Golovin, AK, Golovin Airport

Gulkana, AK, Gulkana Airport

Homer, AK, Homer Airport

Hooper Bay, AK, Hooper Bay Airport

Huslia, AK, Huslia Airport

Iliamna, AK, Iliamna Airport

Kaltag, AK, Kaltag Airport

Kiana, AK, Bob Baker Memorial Airport

King Salmon, AK, King Salmon Airport

Kipnuk, AK, Kipnuk Airport

Kodiak, AK, Kodiak Airport

Kokhanok, AK, Kokhanok Airport

Koliganek, AK, Koliganek Airport

Kotzebue, AK, Ralph Wien Memorial Airport

Koyukuk, AK, Koyukuk Airport

Kuparuk, AK, Ugnu-Kuparuk Airport

Manokotak, AK, Manokotak Airport

Middleton Island, AK, Middleton Island Airport

Noatak, AK, Noatak Airport

Northway, AK, Northway Airport

Nulato, AK, Nulato Airport

Nuiqsut, AK, Nuiqsut Airport

Nuiqsut, AK, Oooguruk Island Heliport

Perryville, AK, Perryville Airport

Pilot Point, AK, Pilot Point Airport

Platinum, AK, Platinum Airport

Point Hope, AK, Point Hope Airport

Point Lay, AK, Point Lay Airport

Port Heiden, AK, Port Heiden Airport

Russian Mission, AK, Russian Mission Airport

Savoonga, AK, Savoonga Airport

Scammon Bay, AK, Scammon Bay Airport

Shaktoolik, AK, Shaktoolik Airport

Shishmaref, AK, Shishmaref Airport

Shungnak, AK, Shungnak Airport

St. Michael, AK, St. Michael Airport

Talkeetna, AK, Talkeetna Airport

Tatitlek, AK, Tatitlek Airport

Teller, AK, Teller Airport

Toksook Bay, AK, Toksook Bay Airport

Unalakleet, AK, Unalakleet Airport

Wainwright, AK, Wainwright Airport

Wales, AK, Wales Airport

Willow, AK, Willow Airport

Yakutat, AK, Yakutat Airport

Remove Airspace Extending Upward From 1,200 Feet Above the Surface and Update City Name

Baldami, AK, Badami Airport, AK—update city name to Deadhorse

Barrow, AK, Wiley Post-Will Rogers Memorial Airport, AK—update city name to Utqiaqvik

Fairbanks International Airport, AK, Fairbanks International Airport—update city name to Fairbanks

Tok Junction, AK, Tok Junction Airport—update city name to Tok

Remove Airspace Extending Upward From 1,200 Feet Above the Surface and Update Airport Name

Arctic Village, AK, Arctic Village—update airport name to Arctic Village Airport

Barter Island, AK, Barter Island LRRS Airport—update airport name to Barter Island Airport

Buckland, AK, Buckland, Buckland Airport—update airport name to Buckland Airport

Cape Lisburne, AK, Cape Lisburne LRRS Airport—update airport name to Cape Lisburne Airport

Cape Newenham, AK, Cape Newenham LRRS Airport—update airport name to Cape Newenham Airport

Cape Romanzof, AK, Cape Romanzof LRRS Airport—update airport name to Cape Romanzof Airport

Deadhorse, AK, Deadhorse, Deadhorse Airport—update airport name to Deadhorse Airport

Kenai, AK, Kenai, Kenai Municipal Airport—update airport name to Kenai Municipal Airport

Kivalina, AK, Kivalina, Kivalina Airport—update airport name to Kivalina Airport

Kobuk, AK, Kobuk, Kobuk Airport—update airport name to Kobuk Airport

Kwethluk AK, Kwethluk, Kwethluk Airport—update airport name to Kwethluk Airport

Napakiak, AK, Napakiak, Napakiak Airport—update airport name to Napakiak Airport

New Stuyahok, AK, New Stuyahok, New Stuyahok Airport—update airport name to New Stuyahok Airport

Nuiqsut, AK, Pioneer Heliport, AK—update airport name to OTP Heliport

Port Clarence, AK, Port Clarence CGS Airport—update airport name to Port Clarence Airport

Prospect Creek, AK, Prospect Creek, Prospect Creek Airport—update airport name to Prospect Creek Airport

Red Dog, AK, Red Dog—update airport name to Red Dog Airport

Ruby, AK, Ruby, Ruby Airport—update airport name to Ruby Airport

Selawik, AK, Selawik, Selawik Airport, AK—update airport name to Selawik Airport

Shageluk, AK, Shageluk, Shageluk Airport—update airport name to Shageluk Airport

Soldotna, AK, Soldotna, Soldotna Airport—update airport name to Soldotna Airport

Sparrevohn, AK, Sparrevohn LRRS—update airport name to Sparrevohn Airport

Tin City, AK, Tin City LRRS—update airport name to Tin City Airport

Venetie, AK, Venetie, Venetie Airport—update airport name to Venetie Airport

Remove Airspace Extending Upward From 1,200 Feet Above the Surface, Update City Name, and Update Airport Name

Indian Mountain, AK, Indian Mountain LRRS—update city name to Utopia Creek, update airport name to Indian Mountain Airport

McGrath, AK, McGrath Airport—update city name to Mc Grath, update airport name to Mc Grath Airport

Remove Airspace Extending Upward From 1,200 Feet Above the Surface, Update City Name, and Remove Reference to a Navigation Component

Koyuk Alfred Adams, AK, Koyuk Alfred Adams Airport—update city name to Koyuk, remove reference to Norton Bay Nondirectional Radio Beacon (NDB)

Remove Airspace Extending Upward From 1,200 Feet Above the Surface, Update Airport Name and Remove Reference to a Navigation Component

Anchorage, AK, Anchorage International Airport—update airport name to Ted Stevens Anchorage International Airport, remove Anchorage Very High Frequency Omni-directional Range/Distance Measuring Equipment (VOR/DME)

Remove Airspace Extending Upward From 1,200 Feet Above the Surface and Remove Reference to a Navigation Component

Nome, AK, Nome Airport—remove reference to Nome Very High Frequency Omni-directional Range TACAN (VORTAC)

Talkeetna, AK, Talkeetna Airport—remove reference to Peters Creek NDB

Valdez, AK, Valdez Pioneer Field—remove reference to the Johnstone Point VORTAC

Remove Airspace Extending Upward From 1,200 Feet Above the Surface and update the Body of the Legal Description

Cordova, AK, Merle K (Mudhole) Smith Airport—add “extending upward from 700 feet above the surface”

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, Environmental Impacts: Policies and Procedures, prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6005 Class E Airspace Areas Extending Upward From 700 Feet or More Above the Surface of the Earth.

* * * * *

AAL AK E5 Akhiok, AK [Amended]

Akhiok Airport, AK

(Lat. 56°56′19″ N, long. 154°10′57″ W)

That airspace extending upward from 700 feet above the surface within a 6.3-mile radius of the airport.

AAL AK E5 Allakaket, AK [Amended]

Allakaket Airport, AK

(Lat. 66°33′07″ N, long. 152°37′20″ W)

That airspace extending upward from 700 feet above the surface within an 8.6-mile radius of the airport.

AAL AK E5 Ambler, AK [Amended]

Ambler Airport, AK

(Lat. 67°06′22″ N, long. 157°51′26″ W)

Ambler NDB

(Lat. 67°06′19″ N, long. 157°51′37″ W)

That airspace extending upward from 700 feet above the surface within a 6.3°-mile radius of the airport, and within 3.5 miles each side of the 193°-bearing of the Ambler NDB, extending from the 6.3 mile radius to 7.2 miles southwest of the airport.

AAL AK E5 Anaktuvuk Pass, AK [Amended]

Anaktuvuk Pass Airport, AK

(Lat. 68°08′01″ N, long. 151°44′36″ W)

That airspace extending upward from 700 feet above the surface within a 4-mile radius of the airport, and within 1.0 mile west and 1.2 miles east of the 022° bearing from the airport, extending from the 4-mile radius to 23.7 miles north of the airport, and within 2.4 miles west and 1.8 miles east of the 038° bearing from the airport, extending from the 4-mile radius to 13 miles northeast of the airport, and within 1 mile each side of the 233° bearing from the airport, extending from the 4-mile radius to 4.5 miles southwest of the airport.

AAL AK E5 Anchorage, AK [Amended]

Ted Stevens Anchorage International Airport, AK

(Lat. 61°10′27″ N, long. 149°59′53″ W)

Anchorage Air Traffic Control Tower

(Lat. 61°10′36″ N, long. 149°58′59″ W)

That airspace extending upward from 700 feet above the surface within a 15.7-mile radius of the Anchorage Air Traffic Control Tower.

AAL AK E5 Aniak, AK [Amended]

Aniak Airport, AK

(Lat. 61°34′53″ N, long. 159°32′43″ W)

Aniak NDB

(Lat. 61°35′26″ N, long. 159°35′53″ W)

Aniak Localizer

(Lat. 61°34′34″ N, long. 159°31′37″ W)

That airspace extending upward from 700 feet above the surface within a 6.5-mile radius of the airport and within 4 miles north and 8 miles south of the 265° bearing of the Aniak NDB to 16 miles west of the NDB and within 2.5 miles each side of the Aniak NDB 113° bearing extending from the 6.5-mile radius of the airport to 14.7 miles east of the airport and 4 miles each side of the Aniak Localizer front course extending from the 6.5-mile radius of the airport to 14.8 miles northwest of the airport.

AAL AK E5 Anvik, AK [Amended]

Anvik, Anvik Airport, AK

(Lat. 62°38′50″ N, long. 160°11′24″ W)

That airspace extending upward from 700 feet above the surface within an 8.0-mile radius of the airport.

AAL AK E5 Arctic Village, AK [Amended]

Arctic Village Airport, AK

(Lat. 68°06′53″ N, long. 145°34′46″ W)

That airspace extending upward from 700 feet above the surface within a 6.4-mile radius of the airport and within 3 miles each side of the 040° bearing from the airport extending from the 6.4-mile radius to 14.8 miles north of the airport.

AAL AK E5 Atqasuk, AK [Amended]

Atqasuk Edward Burnell Sr. Memorial Airport, AK

(Lat. 70°28′02″ N, long. 157°26′08″ W)

That airspace extending upward from 700 feet above the surface within a 7-mile radius of airport.

AAL AK E5 Deadhorse, AK [Amended]

Badami Airport, AK

(Lat. 70°08′15″ N, long. 147°01′50″ W)

That airspace extending upward from 700 feet above the surface within a 6.5-mile radius of the airport.

AAL AK E5 Utqiagvik, AK [Amended]

Wiley Post-Will Rogers Memorial Airport, AK

(Lat. 71°17′06″ N, long. 156°46′07″ W)

That airspace extending upward from 700 feet above the surface within a 6.6-mile radius of the airport.

AAL AK E5 Barter Island, AK [Amended]

Barter Island Airport, AK

(Lat. 70°06′47″ N, long. 143°39′13″ W)

That airspace extending upward from 700 feet above the surface within a 6.4-mile radius of the airport.

AAL AK E5 Bettles, AK [Amended]

Bettles Airport, AK

(Lat. 66°54′50″ N, long. 151°31′45″ W)

That airspace extending upward from 700 feet above the surface within an 8.2-mile radius of the airport, and within 3.9 miles either side of the 212° bearing from the airport, extending from the 8.2-mile radius to 11.3 miles southwest of the airport.

AAL AK E5 Buckland, AK [Amended]

Buckland Airport, AK

(Lat. 65°58′54″ N, long. 161°08′57″ W)

That airspace extending upward from 700 feet above the surface within a 12.4-mile radius of the Buckland Airport.

AAL AK E5 Cape Lisburne, AK [Amended]

Cape Lisburne Airport, AK

(Lat. 68°52′30″ N, long. 166°06′40″ W)

That airspace extending upward from 700 feet above the surface within a 7-mile radius of Cape Lisburne Airport.

AAL AK E5 Cape Newenham, AK [Amended]

Cape Newenham Airport, AK

(Lat. 58°38′53″ N, long. 162°03′50″ W)

That airspace extending upward from 700 feet above the surface within a 7-mile radius of the Cape Newenham Airport.

AAL AK E5 Cape Romanzof, AK [Amended]

Cape Romanzof Airport, AK

(Lat. 61°46′52″ N, long. 166°02′22″ W)

That airspace extending upward from 700 feet above the surface within a 7-mile radius of the Cape Romanzof Airport.

AAL AK E5 Chalkyitsik, AK [Amended]

Chalkyitsik Airport, AK

(Lat. 66°38′42″ N, long. 143°44′24″ W)

That airspace extending upward from 700 feet above the surface within a 6.4-mile radius of the airport.

AAL AK E5 Chevak, AK [Amended]

Chevak Airport, AK

(Lat. 61°32′27″ N, long. 165°36′03″ W)

That airspace extending upward from 700 feet above the surface within a 7.0-mile radius of the airport.

AAL AK E5 Chignik, AK [Amended]

Chignik Airport, AK

(Lat. 56°18′41″ N, long. 158°22′24″ W)

That airspace extending upward from 700 feet above the surface within a 6.3-mile radius of the airport.

AAL AK E5 Clarks Point, AK [Amended]

Clarks Point Airport, AK

(Lat. 58°50′01″ N, long. 158°31′46″ W)

That airspace extending upward from 700 feet above the surface within a 6.3-mile radius of the airport.

AAL AK E5 Cordova, AK [Amended]

Merle K (Mudhole) Smith Airport, AK

(Lat. 60°29′30″ N, long. 145°28′39″ W)

That airspace extending upward from 700 feet above the surface within a 6.6-mile radius of the airport, beginning where the 82° bearing from the airport intersects the 6.6-mile radius clockwise to the point where the 309° bearing intersects the 6.6-mile radius, thence to the point of beginning and that airspace 2 miles each side of the 113° bearing from the airport extending from the 6.6-mile radius to 16 miles southeast from the airport.

AAL AK E5 Deadhorse, AK [Amended]

Deadhorse Airport, AK

(Lat. 70°11′41″ N, long. 148°27′55″ W)

That airspace extending upward from 700 feet above the surface within a 7-mile radius of the airport.

AAL AK E5 Deering, AK [Amended]

Deering Airport, AK

(Lat. 66°04′09″ N, long. 162°46′01″ W)

That airspace extending upward from 700 feet above the surface within a 7-mile radius of the airport.

AAL AK E5 Dillingham, AK [Amended]

Dillingham Airport, AK

(Lat. 59°02′41″ N, long. 158°30′20″ W)

Dillingham VOR/DME

(Lat. 58°59′39″ N, long. 158°33′08″ W)

That airspace extending upward from 700 feet above the surface within a 7-mile radius of the airport, and within 3.1 miles either side of the 206° radial of the Dillingham VOR/DME, extending from the 7-mile radius to 14.1 miles southwest of the airport.

AAL AK E5 Elim, AK [Amended]

Elim Airport, AK

(Lat. 64°36′54″ N, long. 162°16′14″ W)

That airspace extending upward from 700 feet above the surface within a 6.8-mile radius of the airport, and within 3.7 miles either side of the 015° bearing from the airport, extending from the 6.8-mile radius to 12.6 miles north of the airport.

AAL AK E5 Emmonak, AK [Amended]

Emmonak Airport, AK

(Lat. 62°47′10″ N, long. 164°29′27″ W)

Emmonak VOR/DME

(Lat. 62°47′05″ N, long. 164°29′15″ W)

That airspace extending upward from 700 feet above the surface within a 6.5-mile radius of the airport, and within 4 miles east and 8 miles west of the Emmonak VOR/DME 353° radial extending from the VOR/DME to 16 miles north, and within 4 miles east and 8 miles west of the Emmonak VOR/DME 182° radial extending from the VOR/DME to 16 miles south.

AAL AK E5 Fairbanks, AK [Amended]

Fairbanks International Airport, AK

(Lat. 64°48′55″ N, long. 147°51′24″ W)

Fox NDB

(Lat. 64°58′08″ N, long. 147°34′48″ W)

Fairbanks VORTAC

(Lat. 64°48′00″ N, long. 148°00′43″ W)

That airspace extending upward from 700 feet above the surface within a 6.9-mile radius of the airport and within 4 miles north of the 218° bearing from the Fox NDB extending from the NDB to the 6.9-mile radius and within 4 miles east and 8 miles west of the 218° and 038° bearings of the Fox NDB extending from the NDB to 5.3 miles southwest of the NDB and 10.7 miles northeast of the NDB and within 2.5 miles each side of the 068° radial of the Fairbanks VORTAC extending from the 6.9-mile radius to 8.4 miles east of the airport.

AAL AK E5 Fort Yukon, AK [Amended]

Fort Yukon Airport, AK

(Lat. 66°34′21″ N, long. 145°14′47″ W)

Fort Yukon VORTAC

(Lat. 66°34′27″ N, long. 145°16′36″ W)

That airspace extending upward from 700 feet above the surface within a 7.2-mile radius of the VORTAC, and within 4 miles either side of the 076° bearing from the VORTAC, extending from the 7.2-mile radius of the VORTAC, to 21 miles east of the VORTAC.

AAL AK E5 Galbraith Lake, AK [Amended]

Galbraith Lake Airport, AK

(Lat. 68°28′47″ N, long. 149°29′24″ W)

That airspace extending upward from 700 feet above the surface within a 9.5-mile radius of the airport.

AAL AK E5 Galena, AK [Amended]

Edward G. Pitka Sr. Airport, AK

(Lat. 64°44′10″ N, long. 156°56′04″ W)

That airspace extending upward from 700 feet above the surface within a 6.6-mile radius of the airport, within 4.8 miles of each side of the airport's 086° bearing extending to 20.2 miles east of the airport, and within 2.1 miles each side of the airport's 269° bearing extending to 12.2 miles west of the airport.

AAL AK E5 Gambell, AK [Amended]

Gambell Airport, AK

(Lat. 63°46′00″ N, long. 171°43′58″ W)

Gambell NDB/DME

(Lat. 63°46′55″ N, long. 171°44′12″ W)

That airspace extending upward from 700 feet above the surface within a 6.4-mile radius of the airport and within 4 miles each side of the 174° bearing of the NDB/DME extending from the NDB/DME to 23 miles south of the NDB/DME and within 4 miles each side of the NDB/DME 354° bearing extending from the 6.4-mile radius to 10.6 miles north of the airport.

AAL AK E5 Golovin, AK [Amended]

Golovin Airport, AK

(Lat. 64°33′02″ N, long. 163°00′26″ W)

That airspace extending upward from 700 feet above the surface within a 7.4-mile radius of the airport.

AAL AK E5 Gulkana, AK [Amended]

Gulkana Airport, AK

(Lat. 62°09′16″ N, long. 145°27′19″ W)

That airspace extending upward from 700 feet above the surface within a 5-mile radius of the airport, and within 5 miles each side of the 169° bearing from the airport, extending from the 5-mile radius to 24 miles south of the airport, and within 4 miles each side of the 351° bearing from the airport, extending from the 5-mile radius to 12.5 miles north of the airport.

AAL AK E5 Homer, AK [Amended]

Homer Airport, AK

(Lat. 59°38′44″ N, long. 151°28′36″ W)

Kachemak NDB

(Lat. 59°38′29″ N, long. 151°30′01″ W)

That airspace extending upward from 700 feet above the surface within a 6.7-mile radius of the airport, and within 4 miles either side of the 055° bearing from the airport to 12-miles northeast of the airport, and within 8-miles north and 4.2-miles south of the Kachemak NDB 235° bearing extending from the NDB to 16 miles southwest of the NDB.

AAL AK E5 Hooper Bay, AK [Amended]

Hooper Bay Airport, AK

(Lat. 61°31′26″ N, long. 166°08′48″ W)

That airspace extending upward from 700 feet above the surface within a 6.3-mile radius of the airport.

AAL AK E5 Huslia, AK [Amended]

Huslia Airport, AK

(Lat. 65°41′52″ N, long. 156°21′05″ W)

That airspace extending upward from 700 feet above the surface within a 6.5-mile radius of the airport.

AAL AK E5 Iliamna, AK [Amended]

Iliamna Airport, AK

(Lat. 59°45′20″ N, long. 154°55′04″ W)

Iliamna NDB

(Lat. 59°44′53″ N, long. 154°54′35″ W)

That airspace extending upward from 700 feet above the surface within a 7.2-mile radius of the airport, and within 4 miles west and 8 miles east of the 200° bearing of the NDB, extending from the 7.2-mile radius to 16 miles south of the airport.

AAL AK E5 Utopia Creek, AK [Amended]

Indian Mountain Airport, AK

(Lat. 65°59′34″ N, long. 153°42′13″ W)

That airspace extending upward from 700 feet above the surface within a 4-mile radius of Indian Mountain Airport.

AAL AK E5 Kaltag, AK [Amended]

Kaltag Airport, AK

(Lat. 64°19′08″ N, long. 158°44′29″ W)

That airspace extending upward from 700 feet above the surface within a 7.6-mile radius of the airport.

AAL AK E5 Kenai, AK [Amended]

Kenai Municipal Airport, AK

(Lat. 60°34′24″ N, long. 151°14′41″ W)

That airspace extending upward from 700 feet above the surface within a 7.7-mile radius of the airport, and within 4 miles east and west of the 031° bearing from the airport extending from the 7.7-mile radius to 11 miles north of the airport.

AAL AK E5 Kiana, AK [Amended]

Bob Baker Memorial Airport, Kiana, AK

(Lat. 66°58′34″ N, long. 160°26′19″ W)

That airspace extending upward from 700 feet above the surface within a 7.5-mile radius of the airport.

AAL AK E5 King Salmon, AK [Amended]

King Salmon Airport, AK

(Lat. 58°40′35″ N, long. 156°38′55″ W)

That airspace extending upward from 700 feet above the surface within a 6.8-mile radius of airport, and within 3.3 miles northeast and 3.2 miles southwest of the 132° bearing extending from the 6.8-mile radius to 9.1 miles southeast of the airport, and within 3.9 miles each side of the 312° bearing extending from the 6.8-mile radius to 13.8 miles northwest of the airport.

AAL AK E5 Kipnuk, AK [Amended]

Kipnuk Airport, AK

(Lat. 59°55′54″ N, long. 164°01′41″ W)

That airspace extending upward from 700 feet above the surface within a 6.9-mile radius of the airport.

AAL AK E5 Kivalina, AK [Amended]

Kivalina Airport, AK

(Lat. 67°44′10″ N, long. 164°33′49″ W)

That airspace extending upward from 700 feet above the surface within a 6.5-mile radius of the airport, and 3.9 miles either side of the 317° bearing from the airport, extending from the 6.5-mile radius to 11.1 miles northwest of the airport.

AAL AK E5 Kobuk, AK [Amended]

Kobuk Airport, AK

(Lat. 66°54′44″ N, long. 156°53′50″ W)

That airspace extending upward from 700 feet above the surface within a 7.7-mile radius of the airport.

AAL AK E5 Kodiak, AK [Amended]

Kodiak Airport, AK

(Lat. 57°44′59″ N, long. 152°29′38″ W)

That airspace extending upward from 700 feet above the surface within a 6.9-mile radius of the airport, and within 8 miles north and 4.1 miles south of the 071° bearing from the airport, extending from the 6.9-mile radius and extending from 5.2 miles east of the airport to 21.2 miles east of the airport, excluding that airspace extending beyond 12 miles of the shoreline.

AAL AK E5 Kokhanok, AK [Amended]

Kokhanok Airport, AK

(Lat. 59°26′00″ N, long. 154°48′09″ W)

That airspace extending upward from 700 feet above the surface within a 6.9-mile radius of the airport, and that airspace 1 mile north and 1 mile south of the 260° bearing from the airport extending from the 6.9-mile radius to 8.8 miles west of the airport.

AAL AK E5 Koliganek, AK [Amended]

Koliganek Airport, AK

(Lat. 59°43′36″ N, long. 157°15′37″ W)

That airspace extending upward from 700 feet above the surface within a 6.3-mile radius of the airport.

AAL AK E5 Kotzebue, AK [Amended]

Ralph Wien Memorial Airport, AK

(Lat. 66°53′05″ N, long. 162°35′53″ W)

That airspace extending upward from 700 feet above the surface within a 6.8-mile radius of the airport, and within 8 miles north and 4 miles south of the 088° bearing from the airport, extending from 1.4 miles east of the airport to 17.4 miles east of the airport, and within 4 miles north and 8 miles south of a 276° bearing from the airport, extending from the airport to 14.7 miles west of the airport, excluding that airspace extending beyond 12 miles of the shoreline.

AAL AK E5 Koyuk, AK [Amended]

Koyuk Alfred Adams Airport, AK

(Lat. 64°56′22″ N, long. 161°09′15″ W)

Koyuk NDB, AK

(Lat. 64°56′11″ N, long. 161°09′18″ W)

That airspace extending upward from 700 feet above the surface within a 9-mile radius of the airport and 4 miles west and 8 miles east of the NDB 210° bearing extending from the 9-mile radius to 17 miles southwest of the airport.

AAL AK E5 Koyukuk, AK [Amended]

Koyukuk Airport, AK

(Lat. 64°52′33″ N, long. 157°43′50″ W)

That airspace extending upward from 700 feet above the surface within a 6.4-mile radius of the airport.

AAL AK E5 Kuparuk, AK [Amended]

Ugnu-Kuparuk Airport, AK

(Lat. 70°19′50″ N, long. 149°35′53″ W)

That airspace extending upward from 700 feet above the surface within a 6.5-mile radius of the airport, and within 4 miles either side of the 078° bearing extending from the airport's 6.5-mile radius to 9.5 miles east of the airport.

AAL AK E5 Kwethluk, AK [Amended]

Kwethluk Airport, AK

(Lat. 60°47′25″ N, long. 161°26′37″ W)

That airspace extending upward from 700 feet above the surface within a 6.3-mile radius of the airport.

AAL AK E5 Manokotak, AK [Amended]

Manokotak Airport, AK

(Lat. 58°55′55″ N, long. 158°54′07″ W)

That airspace extending upward from 700 feet above the surface within a 6.4-mile radius of the airport.

AAL AK E5 McGrath, AK [Amended]

Mc Grath Airport, AK

(Lat. 62°57′29″ N, long. 155°35′35″ W)

That airspace extending upward from 700 feet above the surface within an 8.1-mile radius of the airport, and within 8 miles east and 4 miles west of the 001° bearing from the airport, extending from the 8.1-mile radius to 15.7 miles north of the airport.

AAL AK E5 Middleton Island, AK [Amended]

Middleton Island Airport, AK

(Lat. 59°27′00″ N, long. 146°18′26″ W)

Middleton Island VOR/DME

(Lat. 59°25′18″ N, long. 146°21′00″ W)

That airspace extending upward from 700 feet above the surface within a 6.5-mile radius of airport, and within 4 miles either side of the 038° radial of the VOR/DME extending from the 6.5-mile radius to 12 miles northeast of the VOR/DME.

AAL AK E5 Napakiak, AK [Amended]

Napakiak Airport, AK

(Lat. 60°41′25″ N, long. 161°58′43″ W)

That airspace extending upward from 700 feet above the surface within a 6.3-mile radius of the airport.

AAL AK E5 New Stuyahok, AK [Amended]

New Stuyahok Airport, AK

(Lat. 59°27′06″ N, long. 157°22′23″ W)

That airspace extending upward from 700 feet above the surface within a 6.9-mile radius of the airport.

AAL AK E5 Noatak, AK [Amended]

Noatak Airport, AK

(Lat. 67°33′40″ N, long. 162°58′50″W)

That airspace extending upward from 700 feet above the surface within a 6.4-mile radius of the airport.

AAL AK E5 Nome, AK [Amended]

Nome Airport, AK

(Lat. 64°30′45″ N, long. 165°26′40″W)

That airspace extending upward from 700 feet above the surface within a 25-mile radius of the airport excluding that airspace beyond 12 miles of the shoreline.

AAL AK E5 Northway, AK [Amended]

Northway Airport, AK

(Lat. 62°57′40″ N, long. 141°55′41″ W)

That airspace extending upward from 700 feet above the surface within an 8-mile radius of the airport, and within 2 miles each side of the 077° radial from the airport, extending from the 8-mile radius to 13.7 miles east of the airport.

AAL AK E5 Nuiqsut AK [Amended]

Nuiqsut Airport, AK

(Lat. 70°12′35″ N, long. 151°00′23″ W)

That airspace extending upward from 700 feet above the surface within a 6.4-mile radius of the airport.

AAL AK E5 Nuiqsut, AK [Amended]

Oooguruk Island Heliport, AK

(Lat. 70°29′44″ N, long. 150°15′12″ W)

That airspace extending upward from 700 feet above the surface within a 6-mile radius of the heliport.

AAL AK E5 Nuiqsut, AK [Amended]

OTP Heliport, AK

(Lat. 70°24′51″ N, long. 150°01′07″ W)

That airspace extending upward from 700 feet above the surface within a 6-mile radius of the heliport.

AAL AK E5 Nulato, AK [Amended]

Nulato Airport, AK

(Lat. 64°43′46″ N, long. 158°04′27″ W)

That airspace extending upward from 700 feet above the surface within a 5-mile radius of the airport.

AAL AK E5 Perryville, AK [Amended]

Perryville Airport, AK

(Lat. 55°54′24″ N, long. 159°09′39″ W)

That airspace extending upward from 700 feet above the surface within a 14.7-mile radius of the airport.

AAL AK E5 Pilot Point, AK [Amended]

Pilot Point Airport, AK

(Lat. 57°34′49″ N, long. 157°34′19″ W)

That airspace extending upward from 700 feet above the surface within a 6.3-mile radius of the airport.

AAL AK E5 Platinum, AK [Amended]

Platinum Airport, AK

(Lat. 59°01′04″ N, long. 161°49′38″ W)

That airspace extending upward from 700 feet above the surface within a 6.3-mile radius of the airport.

AAL AK E5 Point Hope, AK [Amended]

Point Hope Airport, AK

(Lat. 68°20′53″ N, long. 166°47′57″ W)

Point Hope NDB

(Lat. 68°20′41″ N, long. 166°47′54″ W)

That airspace extending upward from 700 feet above the surface within a 6.4-mile radius of the airport and within 3 miles each side of the 207° bearing of the NDB extending from the 6.4-mile radius to 10.3 miles southwest of the airport and within 3 miles either side of the NDB 017° bearing extending from the 6.4-mile radius to 9.9 miles northeast of the airport.

AAL AK E5 Point Lay, AK [Amended]

Point Lay Airport, AK

(Lat. 69°43′58″ N, long. 163°00′19″ W)

That airspace extending upward from 700 feet above the surface within an 8-mile radius of the airport.

AAL AK E5 Port Clarence, AK [Amended]

Port Clarence Airport, AK

(Lat. 65°15′12″ N, long. 166°51′27″ W)

That airspace extending upward from 700 feet above the surface within a 6.4-mile radius of the airport, and within 1.5 miles either side of the 180° bearing from the airport, extending from the 6.4-mile radius to 13.2 miles south of the airport.

AAL AK E5 Port Heiden, AK [Amended]

Port Heiden Airport, AK

(Lat. 56°57′33″ N, long. 158°38′00″ W)

Port Heiden NDB

(Lat. 56°57′15″ N, long. 158°38′51″ W)

That airspace extending upward from 700 feet above the surface within a 6.8-mile radius of the airport, and within 4 miles north and 8 miles south of the 248° bearing of the NDB extending from the NDB to 20 miles west of the NDB, and within 4 miles east and 8 miles west of the 339° bearing of the NDB extending from the NDB to 20 miles north of the NDB.

AAL AK E5 Prospect Creek, AK [Amended]

Prospect Creek Airport, AK

(Lat. 66°48′51″ N, long. 150°38′37″ W)

That airspace extending upward from 700 feet above the surface within an 11-mile radius of the airport, and extending 2 miles either side of a line from 66°55′50″ N, 150°32′43″ W; to 67°02′47″ N, 150°34′16″ W; extending beyond the 11-mile radius, and 4.5 miles east and 4 miles west of the 214° bearing from the airport extending from the 11-mile radius to 13 miles southwest of the airport.

AAL AK E5 Red Dog, AK [Amended]

Red Dog Airport, AK

(Lat. 68°01′56″ N, Long. 162°53′57″ W)

That airspace extending upward from 700 feet above the surface within an 11-mile radius of the airport, and within 4 miles either side of the 219° bearing from the airport extending from the 11-mile radius to 14.5 miles southwest of the airport.

AAL AK E5 Ruby, AK [Amended]

Ruby Airport, AK

(Lat. 64°43′38″ N, long. 155°28′12″ W)

That airspace extending upward from 700 feet above the surface within a 6.4-mile radius of the airport, and within 4 miles either side of the 051° bearing from the airport extending from the 6.4-mile radius to 20.3 miles northeast of the airport.

AAL AK E5 Russian Mission, AK [Amended]

Russian Mission Airport, AK

(Lat. 61°46′30″ N, long. 161°19′10″ W)

That airspace extending upward from 700 feet above the surface within a 6.2-mile radius of the airport.

AAL AK E5 Savoonga, AK [Amended]

Savoonga Airport, AK

(Lat. 63°41′11″ N, long. 170°29′35″ W)

That airspace extending upward from 700 feet above the surface within a 6.4-mile radius of the airport, and within 4 miles each side of the 059° bearing of the airport extending from the 6.4-mile radius to 11 miles northeast of the airport.

AAL AK E5 Scammon Bay, AK [Amended]

Scammon Bay Airport, AK

(Lat. 61°50′40″ N, long. 165°34′26″ W)

That airspace extending upward from 700 feet above the surface within a 6.3-mile radius of the airport, and within 4 miles either side of the 099° bearing of the airport extending from the 6.3-mile radius to 11 miles east of the airport.

AAL AK E5 Selawik, AK [Amended]

Selawik Airport, AK

(Lat. 66°36′01″ N, long. 159°59′09″ W)

That airspace extending upward from 700 feet above the surface within a 7.3-mile radius of the airport.

AAL AK E5 Shageluk, AK [Amended]

Shageluk Airport, AK

(Lat. 62°41′32″ N, long. 159°34′09″ W)

That airspace extending upward from 700 feet above the surface within a 6.3-mile radius of the airport.

AAL AK E5 Shaktoolik, AK [Amended]

Shaktoolik Airport, AK

(Lat. 64°22′16″ N, long. 161°13′26″ W)

That airspace extending upward from 700 feet above the surface within a 6.4-mile radius of the airport.

AAL AK E5 Shishmaref, AK [Amended]

Shishmaref Airport, AK

(Lat. 66°14′58″ N, long. 166°05′22″ W)

Shishmaref NDB

(Lat. 66°15′29″ N, long. 166°03′09″ W)

That airspace extending upward from 700 feet above the surface within a 6.5-mile radius of the airport and within 4 miles southeast and 8 miles northwest of the 245° bearing from the NDB extending from the NDB to 16 miles southwest and within 4 miles southeast and 8 miles northeast of the NDB 061° bearing from the NDB extending from the NDB to 16 miles northeast of the NDB.

AAL AK E5 Shungnak, AK [Amended]

Shungnak Airport, AK

(Lat. 66°53′17″ N, long. 15°09′45″ W)

That airspace extending upward from 700 feet above the surface within a 6.5-mile radius of the airport.

AAL AK E5 Soldotna, AK [Amended]

Soldotna Airport, AK

(Lat. 60°28′31″ N, long. 151°02′23″ W)

That airspace extending upward from 700 feet above the surface within a 10.1-mile radius of the airport and within 2.4 miles either side of the 270° bearing of the airport, extending from the 10.1-mile radius to 11 miles west of the airport, and within 3.5 miles either side of the 090° bearing of the airport extending from the 10.1-mile radius to 14.3 miles east of the airport.

AAL AK E5 Sparrevohn, AK [Amended]

Sparrevohn Airport, AK

(Lat. 61°05′50″ N, long. 155°34′29″ W)

That airspace extending upward from 700 feet above the surface within a 3-mile radius of the Sparrevohn LRRS.

AAL AK E5 St. Michael, AK [Amended]

St Michael Airport, AK

(Lat. 63°29′24″ N, long. 162°06′37″ W)

That airspace extending upward from 700 feet above the surface within an 8.4-mile radius of the airport.

AAL AK E5 Talkeetna, AK [Amended]

Talkeetna Airport, AK

(Lat. 62°19′17″ N, long. 150°05′34″ W)

Talkeetna VOR/DME

(Lat. 62°17′54″ N, long. 150°06′19″ W)

That airspace extending upward from 700 feet above the surface within a 6.4-mile radius of the airport and within 3.8 miles each side of the 190° radial of the VOR/DME extending from the 6.4-mile radius to 14.4 miles south of the airport.

AAL AK E5 Tanana, AK [Amended]

Ralph M Calhoun Memorial Airport, AK

(Lat. 65°10′28″ N, long. 152°06′29″ W)

That airspace extending upward from 700 feet above the surface within a 6.6-mile radius of the airport, and within 1.9 miles each side of the airport's 101° bearing extending from the 6.6-mile radius to 10.5 miles east of the airport.

AAL AK E5 Tatitlek, AK [Amended]

Tatitlek Airport, AK

(Lat. 60°52′21″ N, long. 146°41′28″ W)

That airspace extending upward from 700 feet above the surface within a 6.4-mile radius of the airport, and within 2 miles southwest and 3.4 miles northeast of the 149° radial from airport extending from the 6.4-mile radius to 11.8 miles southeast of the airport.

AAL AK E5 Teller, AK [Amended]

Teller Airport, AK

(Lat. 65°14′25″ N, long. 166°20′22″ W)

That airspace extending upward from 700 feet above the surface within a 6.5-mile radius of the airport.

AAL AK E5 Tin City, AK [Amended]

Tin City Airport, AK

(Lat. 65°33′51″ N, long. 167°55′21″ W)

That airspace extending upward from 700 feet above the surface within a 7-mile radius of the Tin City LRRS.

AAL AK E5 Tok, AK [Amended]

Tok Junction Airport, AK

(Lat. 63°19′46″ N, long. 142°57′13″ W)

That airspace extending upward from 700 feet above the surface within a 6.9-mile radius of the airport.

AAL AK E5 Toksook Bay, AK [Amended]

Toksook Bay Airport, AK

(Lat. 60°32′29″ N, long. 165°05′14″ W)

That airspace extending upward from 700 feet above the surface within a 6.3-mile radius of the airport.

AAL AK E5 Unalakleet, AK [Amended]

Unalakleet Airport, AK

(Lat. 63°53′19″ N, long. 160°47′57″ W)

That airspace extending upward from 700 feet above the surface within a 7-mile radius of the airport beginning at the 360° bearing of the airport clockwise to the 260° bearing of the airport, and within a 13.5-mile radius of the airport beginning at the 260° bearing of the airport clockwise to the 360° bearing of the airport, and within 6 miles each side of the airport 185° bearing of the airport extending from the 7-mile radius to 10 miles south of the airport.

AAL AK E5 Valdez, AK [Amended]

Valdez Pioneer Field, AK

(Lat. 61°08′03″ N, long. 146°14′41″ W)

Valdez Localizer

(Lat. 61°08′10″ N, long. 146°13′15″ W)

That airspace extending upward from 700 feet above the surface within a 6.6-mile radius of the airport, and within 3.1 miles each side of the localizer front course extending from the 6.6-mile radius to 12.8 miles southwest of the localizer.

AAL AK E5 Venetie, AK [Amended]

Venetie Airport, AK

(Lat. 67°00′31″ N, long. 146°21′59″ W)

That airspace extending upward from 700 feet above the surface within a 6.4-mile radius of the airport, and within 3.9 miles either side of the 062° bearing from the airport, extending from the 6.4-mile radius to 10.1 miles northeast of the airport.

AAL AK E5 Wainwright, AK [Amended]

Wainwright Airport, AK

(Lat. 70°38′17″ N, long. 159°59′41″ W)

That airspace extending upward from 700 feet above the surface within an 8.5-mile radius of the airport.

AAL AK E5 Wales, AK [Amended]

Wales Airport, AK

(Lat. 65°37′21″ N, long. 168°05′42″ W)

That airspace extending upward from 700 feet above the surface within a 6.35-mile radius of the airport.

AAL AK E5 Willow, AK [Amended]

Willow Airport, AK

(Lat. 61°45′15″ N, long. 150°03′06″ W)

That airspace extending upward from 700 feet above the surface within a 6.4-mile radius of the airport.

AAL AK E5 Wrangell, AK [Amended]

Wrangell Airport, AK

(Lat. 56°29′04″ N, long. 132°22′11″ W)

That airspace extending upward from 700 feet above the surface within a 5.6-mile radius of the airport, within five miles on either side of the 151° bearing extending from the 5.6-mile radius to 9.5 miles southeast of the airport, within 5.6 miles on the southwest side of the 320° bearing extending from the 5.6-mile radius to 11.8 miles northwest of the airport, and within 5.6 miles on the northeast side of the 320° bearing extending from the 5.6-mile radius to 13.5 miles northwest of the airport.

AAL AK E5 Yakutat, AK [Amended]

Yakutat Airport, AK

(Lat. 59°30′12″ N, long. 139°39′37″ W)

Yakutat VOR/DME

(Lat. 59°30′39″ N, long. 139°38′53″ W)

That airspace extending upward from 700 feet above the surface within the area bounded by lat. 59°47′42″ N, long, 139°58′48″ W, to lat. 59°37′33″ N, long. 139°40′54″ W, then along the 7-mile radius of the VOR/DME clockwise to lat. 59°28′54″ N, long. 139°25′36″ W, to lat. 59°20′16″ N, long. 139°10′20″ W, to lat. 59°02′49″ N, long. 139°47′45″ W, to lat. 59°30′15″ N, long. 140°36′43″ W, to the point of beginning, excluding that area beyond 12 miles from the shoreline within the Gulf of Alaska Low Control Area.

AAL AK E5 Umiat, AK [Removed]

AAL AK E5 Yukon-Kuskokwim Delta, AK [Removed]

* * * * *

Paragraph 6006 En Route Domestic Airspace Areas.

* * * * *

AAL AK E6 Alaska, AK [New]

That airspace extending upward from 1,200 feet above the surface within the boundary of the state of Alaska including the offshore airspace to 12 NM of the shoreline, excluding that airspace west of longitude 160°00′00″ W, extending upward from 14,500 feet MSL, and that airspace within restricted areas R-2201A, R-2201B, R-2202A, R-2202B, R-2203A, R-2203B, R-2203C, R-2204 Low, R-2205A, R-2205B, R-2205C, R-2205D, R2205E, R-2206A, R-2206B, R-2206D, and R-2211 when active.

AAL AK E6 Northeast, AK [Removed]

AAL AK E6 Southeast, AK [Removed]

* * * * *

Issued in Des Moines, Washington, on June 12, 2025.
B.G. Chew,
Group Manager, Operations Support Group, Western Service Center.

[FR Doc. 2025-11078 Filed 6-16-25; 8:45 am]

BILLING CODE 4910-13-P